DEPARTMENT OF AGRICULTURE

Forest Service

New Mexico Collaborative Forest Restoration Program Technical Advisory Panel

AGENCY: Forest Service, USDA.

ACTION: Notice of meeting.

SUMMARY: The New Mexico Collaborative Forest Restoration Program (CFRP) Technical Advisory Panel (Panel) will meet in Albuquerque, New Mexico. The Panel is established consistent with the Federal Advisory Committee Act of 1972 (5 U.S.C. App. II), and Title VI of the Community Forest Restoration Act (Pub. L. 106-393). Additional information concerning the Panel, including the meeting summary/minutes, can be found by visiting the Panel's Web site at: http://www.fs.usda.gov/goto/r3/cfrp.

DATES: The meeting will be held March 30, 2015-April 3, 2015, from 10:00 a.m. to 4:00 p.m. All meetings are subject to cancellation. For updated status of the meeting prior to attendance, please contact the person listed under FOR FURTHER INFORMATION CONTACT.

ADDRESSES: The meeting will be held at the Hyatt Place Albuquerque/Uptown, 6901 Arvada Avenue NE, Albuquerque, New Mexico. Written comments may be submitted as described under SUPPLEMENTARY INFORMATION. All comments, including names and addresses, when provided, are placed in the record and available for public inspection and copying. The public may inspect comments received at the Cooperative and International Forestry Office. Please call ahead at to facilitate entry into the building.

FOR FURTHER INFORMATION CONTACT: Walter Dunn, Designated Federal Official, USDA Forest Service, 333 Broadway SE., Albuquerque, New Mexico 87102, by phone at (505) 842-3425, by email at wdunn@fs.fed.us, or via fax at (505) 842-3165.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Review Panel Bylaws, Charter, and what it means to be a Federal Advisory Committee,

(2) Evaluate and score the 2015 CFRP grant applicsiotns to determine which ones best meet the program objectives,

(3) Develop prioritized 2015 CFRP project funding recommendations for the Secretary,

(4) Develop an agenda and identify members for the 2015 CFRP Sub-Committee for the review of multi-party monitoring reports from completed projects, and

(5) Discuss the proposal review process used by the Panel to identify what went well and what could be imporved.

The meeting is open to the public. Panel discussion is limited to Panel members and Forest Service staff. Project proponents may make brief presentations to the Panel summarizing their grant application and respond to questions of clarification from Panel members or Forest Service staff. However, the agenda will include time for people to make oral statements of three minutes or less. Individuals wishing to make an oral statement should submit a request in writing by March 23, 2015 to be scheduled on the agenda. Anyone who would like to bring CFRP grant application review related matters to the attention of the Panel may file written statements with the Panel staff before or after each day of the meeting. Written comments and time requests for oral comments must be sent to the person listed under FOR FURTHER INFORMATION CONTACT.

A summary of the meeting will be posted on the Web site listed above within 45 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: February 17, 2015.
Danny R. Montoya,
Acting Deputy Regional Forester.

[FR Doc. 2015-03566 Filed 2-20-15; 8:45 am]

BILLING CODE 3411-15-P